FEDERAL COMMUNICATIONS COMMISSION

47 CFR Parts 2 and 80

[WT Docket No. 04-344; RM-10821; FCC 04-207]

Maritime Communications

AGENCY: Federal Communications Commission.

ACTION: Proposed rule.

SUMMARY: In this document, the Commission initiates a rulemaking proceeding to identify the electromagnetic spectrum that should be used for maritime Automatic Identification Systems (AIS) in the United States and its territorial waters. AIS is an important tool for enhancing maritime safety and homeland security, and the Commission is concerned that recent developments may have created uncertainty in the maritime community regarding the very high frequency (VHF) channels to be used for AIS, and that this in turn could impede efforts to expedite the broad deployment of AIS. The Commission has received conflicting petitions and other pleadings on this subject from the National Telecommunications and Information Administration (NTIA), which is representing the interests of the Federal Government, including the United States Coast Guard (USCG or Coast Guard) and the Department of Transportation (including the Saint Lawrence Seaway Development Corporation) in this matter, and from MariTEL, Inc. (MariTEL), the licensee of all nine of the maritime VHF Public Coast (VPC) station service areas. Based on these petitions and pleadings, as well as responsive comments from other stakeholders in the maritime community, the Commission proposes to designate VHF maritime Channels 87B and 88B for exclusive AIS use domestically, in keeping with the international allocation of those channels for AIS, because the Commission tentatively concludes that the use of those channels will best secure to the United States the maritime safety and homeland security benefits of AIS. In addition, the Commission tentatively concludes that it should deny MariTEL's pending petitions that conflict with this proposal.

DATES: Submit comments on or before December 30, 2004, and reply comments are due on or before January 31, 2005.

FOR FURTHER INFORMATION CONTACT: Jeffrey Tobias, Jeff.Tobias@FCC.gov, Public Safety and Critical Infrastructure Division, Wireless Telecommunications Bureau, (202) 418-0680, or TTY (202) 418-7233.

SUPPLEMENTARY INFORMATION: This is a summary of the Federal Communications Commission's Notice of Proposed Rulemaking (“NPRM”) in WT Docket No. 04-344, FCC 04-207, adopted on August 26, 2004, and released on October 15, 2004. The full text of this document is available for inspection and copying during normal business hours in the FCC Reference Center, 445 12th Street, SW., Washington, DC 20554. The complete text may be purchased from the Commission's copy contractor, Best Copy and Printing, Inc., 445 12th Street, SW., Room CY-B402, Washington, DC 20554. The full text may also be downloaded at: http://www.fcc.gov. Alternative formats are available to persons with disabilities by contacting Brian Millin at (202) 418-7426 or TTY (202) 418-7365 or at bmillin@fcc.gov.

1. Section 80.371(c)(3) of the Commission's Rules, 47 CFR 80.371(c)(3), directs the licensee of VHF Public Coast Service Areas (VPCSAs) 1-9, i.e., MariTEL, and the Coast Guard to negotiate in good faith to select two narrowband offset channel pairs to be dedicated to AIS use, and specifies that if an agreement cannot be reached, the Coast Guard may petition the Commission to select the channel pairs. Although MariTEL and the Coast Guard did in fact reach an agreement to designate frequencies 157.375 MHz and 161.975 MHz for AIS and executed a Memorandum of Agreement (MOA) to that effect, MariTEL later exercised its right to terminate the MOA. Following termination of the MOA, NTIA petitioned the Commission on behalf of the Coast Guard to select Channels 87B and 88B for AIS and to work with NTIA to reallocate the channels for exclusive AIS use nationwide on a shared Federal Government/non-Federal Government basis. After reviewing various proposals submitted by MariTEL and NTIA, including their technical submissions, and the comments filed in response to a number of public notices relating to this matter, the Commission tentatively agrees with NTIA and the Coast Guard, as well as the vast majority of commenters, that the public interest would be served by designating Channels 87B and 88B for exclusive AIS use in the nine maritime VPCSAs. The Commission therefore grants the petition for rulemaking filed by NTIA on October 24, 2003, RM-10821 to the extent that it seeks initiation of a rulemaking proceeding to consider this issue, denies the Emergency Petition for Declaratory Ruling filed by MariTEL on October 15, 2003, and adopts the instant Notice of Proposed Rule Making in which it proposes to designate Channels 87B and 88B for exclusive AIS use in the nine maritime VPCSAs.

2. Designating Channels 87B and 88B for AIS in the United States and its territorial waters would permit seamless worldwide AIS operations. If the United States were to designate channels other than 87B and 88B for AIS, vessels entering United States waters would have to switch to those alternative channels, instead of being able to use the same channels that were employed in international waters. Commenters indicate that requiring such switching would increase the risk of vessel collisions. If ships must switch channels as they approach and transit an AIS “fence” between international and United States waters, there is a risk that they will disappear temporarily from the screens of vessel traffic management systems as well as from the screens of AIS receivers located on the bridges of vessels.

3. Further, domestic use of Channels 87B and 88B for AIS would facilitate the speedy and efficient deployment of AIS, allowing the United States to take full advantage of existing AIS standards and infrastructure. Mandating the use of other channels could prolong implementation schedules for future PAWSS installations and delay full implementation of AIS as a component of homeland security because of the need for additional technical analysis, possible design changes, and conceivably more extensive shore infrastructure to accommodate AIS channel shifting. In addition, AIS operations on Channels 87B and 88B already have been deployed in, for example, the Saint Lawrence Seaway. A switch to other channels on the United States side would not only necessitate a costly reconfiguration of the AIS network on the Seaway but, more importantly, would compromise the ability of the United States to coordinate with Canada in monitoring vessel traffic on the Seaway and in other areas, since Canada uses Channels 87B and 88B for AIS. In addition to implementation delays and coordination difficulties, the use of channels other than 87B and 88B would affect the United States adversely because it would cause the U.S. Government to expend considerably more time, money and resources to implement a domestic AIS infrastructure.

4. Designating specific channels for AIS should provide greater regulatory certainty, which in turn should encourage investment in AIS technology. Calling for another round of negotiations between the Coast Guard and MariTEL to identify channels for AIS would likely result in greater delay before this critical issue could be definitively resolved, and the resultant uncertainty could retard the pace of AIS deployment in the United States. Further, a resolution premised on a new MOA between the parties would still leave open the possibility that either party would terminate that future MOA, returning us to the present predicament. Specifically designating AIS channels in the Commission's Rules, in contrast, would eliminate that possibility. Therefore, the Commission sees important public interest benefits in designating specific channels for AIS, and the record developed thus far overwhelmingly militates in favor of designating Channels 87B and 88B for this purpose rather than any other channels.

5. After reviewing the parties' technical submissions, the Commission also tentatively concludes that there is no basis in public policy or equity either to forego designating Channels 87B and 88B for AIS in order to protect MariTEL's interests or to provide some mechanism to compensate MariTEL if it does so. The Commission believed that the action it proposes here is essential to public safety, a reasonable regulatory response to changed circumstances, does not limit the licensed VPC spectrum available for MariTEL's proposed data offerings to any greater degree than would the designation of four narrowband offset channels, does not unfairly undermine MariTEL's reasonable investment-backed expectations, and does not undermine the integrity of the Commission's auction process. The Commission invites comment on these tentative conclusions as well as on its overall proposal. In addition, the Commission encourages the Coast Guard and Maritel to cooperate in an effort to avoid interference to and from AIS and VPC operations, and to take reasonable measures to remedy any instances of interference that occur. Although the Commission does not propose here to mandate any particular type of cooperative interference mitigation measures, it seeks comment on whether there are specific actions it could take to facilitate such collaboration.

6. The Commission also tentatively concludes that it should not adopt MariTEL's proposal to serve as the AIS frequency coordinator. MariTEL's proposed fees for providing AIS frequency coordination would create an unwarranted disincentive for voluntary carriage of AIS equipment. The effectiveness of AIS as a tool in service of maritime safety and homeland security is directly proportional to the percentage of vessels that operate with AIS. Creating a disincentive for voluntary AIS carriage should be considered only if there are equally weighty reasons in favor of it. Here, there is no apparent countervailing public interest benefit in MariTEL's proposal to act as AIS frequency coordinator that could justify a measure that would discourage fitting vessels with AIS equipment. In addition, the proposed fees would unfairly burden the owners and operators of vessels subject to mandatory AIS carriage requirements, who must already shoulder the costs of purchasing and installing AIS equipment to fulfill the requirement.

7. The Commission also declines to propose adoption of MariTEL's proposal for shared use of Channels 87B and 88B, as set forth in MariTEL's submission of February 9, 2004. The public interest benefits of adopting this proposal are unclear, and do not outweigh the clear disadvantages of the proposal. First, the MariTEL sharing proposal would permit MariTEL to use on a shared basis not only Channel 87B but also the Federal Government channel 88B. The Commission is not empowered to give MariTEL any rights to use a Federal Government channel, and NTIA has not indicated any readiness to do so. Second, the MariTEL sharing proposal is premised in part on the Commission adopting regulations precluding the reception and use of AIS transmissions except by MariTEL, the Coast Guard and ship stations. However, precluding other entities from acquiring and using AIS information, or allowing such access and use only upon payment to MariTEL, could inhibit domestic implementation of AIS, could preclude beneficial public/private cooperative arrangements between the Coast Guard and private maritime associations, and could otherwise impede efficient AIS implementation. Finally, the MariTEL sharing proposal calls for the Commission to modify the technical requirements for AIS devices in order to prevent interference from AIS operations on Channels 87B and 88B to adjacent channel VPC channels. The AIS technical requirements are based on the international standards, and the Commission tentatively concludes that it should not revise those requirements unilaterally, and effectively abandon the standards-setting efforts to date, solely at the behest of and for the benefit of a single company. This is especially so because some of the mandatory AIS carriage deadlines have come into effect, and it is at best uncertain that the Commission could develop new technical requirements soon enough to give vessel operators a reasonable opportunity to come into compliance.

I. Procedural Matters

A. Ex Parte Rules—Permit-But-Disclose Proceeding

8. This is a permit-but-disclose notice and comment rulemaking proceeding. Ex parte presentations are permitted, except during the Sunshine Agenda period, provided they are disclosed as provided in the Commission's rules.

B. Comment Dates

9. Pursuant to sections 1.415 and 1.419 of the Commission's rules, 47 CFR 1.415, 1.419, interested parties may file comments on or before December 30, 2004 and reply comments on or before January 31, 2005. Comments may be filed using the Commission's Electronic Comment Filing System (ECFS) or by filing paper copies.

10. Comments filed through the ECFS can be sent as an electronic file via the Internet to http://www.fcc.gov/e-file/ecfs.html. Generally, only one copy of an electronic submission must be filed. If multiple docket or rulemaking numbers appear in the caption of this proceeding, however, commenters must transmit one electronic copy of the comments to each docket or rulemaking number referenced in the caption. In completing the transmittal screen, commenters should include their full name, Postal Service mailing address, and the applicable docket or rulemaking number. Parties may also submit an electronic comment by Internet e-mail. To get filing instructions for e-mail comments, commenters should send an e-mail to ecfs@fcc.gov, and should include the following words in the body of the message, “get form <your e-mail address>.” A sample form and directions will be sent in reply. Parties who choose to file by paper must file an original and four copies of each filing. If more than one docket or rulemaking number appears in the caption of this proceeding, commenters must submit two additional copies for each additional docket or rulemaking number. All filings must be addressed to the Commission's Secretary, Marlene H. Dortch, Office of the Secretary, Federal Communications Commission, 445 12th St., SW., Washington, DC 20554. Filings can be sent first class by the U.S. Postal Service, by an overnight courier or hand and message-delivered. Hand and message-delivered paper filings must be delivered to 236 Massachusetts Avenue, NE., Suite 110, Washington, DC 20002. Filings delivered by overnight courier (other than U.S. Postal Service Express Mail and Priority Mail) must be sent to 9300 East Hampton Drive, Capitol Heights, MD 20743.

11. Parties who choose to file by paper should also submit their comments on diskette. These diskettes should be submitted to: Jeffrey Tobias, Wireless Telecommunications Bureau, 445 12th St., SW., Room 3-A432, Washington, DC 20554. Such a submission should be on a 3.5 inch diskette formatted in an IBM compatible format using Microsoft Word or compatible software. The diskette should be accompanied by a cover letter and should be submitted in “read only” mode. The diskette should be clearly labeled with the commenter's name, proceeding (including the docket number in this case, WT Docket No. 04-344), type of pleading (comment or reply comment), date of submission, and the name of the electronic file on the diskette. The label should also include the following phrase “Disk Copy—Not an Original.” Each diskette should contain only one party's pleadings, preferably in a single electronic file. In addition, commenters should send diskette copies to the Commission's copy contractor, Best Copy and Printing, Inc., 445 12th St., SW., Room CY-B402, Washington, DC 20554.

C. Paperwork Reduction Act

12. This document does not contain proposed information collection(s) subject to the Paperwork Reduction Act of 1995 (PRA), Public Law 104-13. In addition, therefore, it does not contain any new or modified “information collection burden for small business concerns with fewer than 25 employees,” pursuant to the Small Business Paperwork Relief Act of 2002, Public Law 107-198, see 44 U.S.C. 3506(c)(4).

II. Initial Regulatory Flexibility Analysis

13. As required by the Regulatory Flexibility Act (RFA), the Commission has prepared this present Initial Regulatory Flexibility Analysis (IRFA) of the possible significant economic impact on small entities by the policies and rules proposed in the Notice of Proposed Rule Making in WT Docket No. 04-344 (NPRM). Written public comments are requested on this IRFA. Comments must be identified as responses to the IRFA and must be filed by the deadlines for comments on the NPRM as provided in paragraph 70, supra, of the item. The Commission will send a copy of the NPRM, including the IRFA, to the Chief Counsel for Advocacy of the U.S. Small Business Administration. In addition, the NPRM and IRFA (or summaries thereof) will be published in the Federal Register.

A. Need for, and Objectives of, the Proposed Rules

14. In the NPRM, we seek comment on rule amendments that are intended to identify the spectrum that should be used for maritime Automatic Identification Systems (AIS) in the United States and its territorial waters. AIS is an important tool for enhancing maritime safety and homeland security, and we are concerned that recent developments may have created uncertainty in the maritime community regarding the very high frequency (VHF) channels to be used for AIS, and that this in turn could impede efforts to expedite the broad deployment of AIS domestically. In the NPRM, we propose to designate VHF maritime Channels 87B and 88B for AIS use domestically, in keeping with the international allocation of those channels for AIS, because we believe the use of those channels will best secure to the United States the maritime safety and homeland security benefits of AIS.

B. Legal Basis for Proposed Rules

15. The proposed action is authorized under sections 1, 4(i), 302, 303(f) and (r), and 332 of the Communications Act of 1934, as amended, 47 U.S.C. 1, 154(i), 302, 303(f) and (r), and 332.

C. Description and Estimate of the Number of Small Entities To Which the Proposed Rules Will Apply

16. The RFA directs agencies to provide a description of and, where feasible, an estimate of the number of small entities that may be affected by the proposed rules, if adopted. The RFA defines the term “small entity” as having the same meaning as the terms “small business,” “small organization,” and “small governmental jurisdiction.” In addition, the term “small business” has the same meaning as the term “small business concern” under the Small Business Act. A small business concern is one which: (1) Is independently owned and operated; (2) is not dominant in its field of operation; and (3) satisfies any additional criteria established by the Small Business Administration (SBA).

17. Small businesses in the aviation and marine radio services use a very high frequency (VHF) marine or aircraft radio and, as appropriate, an emergency position-indicating radio beacon (and/or radar) or an emergency locator transmitter. The Commission has not developed a small business size standard specifically applicable to these small businesses. For purposes of this analysis, the Commission uses the SBA small business size standard for the category “Cellular and Other Telecommunications,” which is 1,500 or fewer employees. Between December 3, 1998 and December 14, 1998, the Commission held an auction of 42 VHF Public Coast (VPC) licenses in the 157.1875-157.4500 MHz (ship transmit) and 161.775-162.0125 MHz (coast transmit) bands. For purposes of the auction, the Commission defined a “small” business as an entity that, together with controlling interests and affiliates, has average gross revenues for the preceding three years not to exceed fifteen million dollars. In addition, a “very small” business is one that, together with controlling interests and affiliates, has average gross revenues for the preceding three years not to exceed three million dollars. There are approximately 10,672 licensees in the Marine Coast Service, and the Commission estimates that almost all of them qualify as “small” businesses under the above special small business size standards.

D. Description of Projected Reporting, Recordkeeping, and Other Compliance Requirements

18. There are no projected reporting, recordkeeping or other compliance requirements.

E. Steps Taken To Minimize Significant Economic Impact on Small Entities, and Significant Alternatives Considered

19. The RFA requires an agency to describe any significant alternatives that it has considered in reaching its proposed approach, which may include the following four alternatives: (1) The establishment of differing compliance or reporting requirements or timetables that take into account the resources available to small entities; (2) the clarification, consolidation, or simplification of compliance or reporting requirements under the rule for small entities; (3) the use of performance, rather than design standards; and (4) an exemption from coverage of the rule, or any part thereof, for small entities.

In the NPRM, we request comment on the proposal to designate Channels 87B and 88B for exclusive AIS use. We describe here, and seek comment on, possible alternatives to imposing these new rules that might minimize the economic impact on small entities. First, we ask commenters to consider the interference impact on MariTEL, Inc., licensee of the nine maritime VPC service areas, or on any incumbent site-based VPC licensees or any Economic Area (EA) VPC licensees of the proposed designation of Channels 87B and 88B for AIS exclusively. We tentatively conclude that the proposed designation of Channels 87B and 88B for AIS should not have an adverse effect on MariTEL's use of its VPC channels to a materially greater extent, if at all, than would designation of two narrowband offset channel pairs of the Commission's choosing from the 156-162 MHz VHF maritime band. We request comment on this tentative conclusion. In addition, commenters are asked if incumbent site based VPC operations can co-exist on a non-interference basis with AIS and, if not, should the Commission require that that these operations be migrated to other spectrum and/or should the licensees be compensated in some way.

20. Commenters are requested to identify potential means of minimizing or eliminating any adverse economic impact on any small entities, particularly VPC licensees that qualify as small entities, if Channels 87B and 88B are designated for AIS use. Such means may include, but are not limited to, exemptions, grandfathering protection, or geographic limitations on the use of Channels 87B and 88B for AIS. Additionally or alternatively, we seek comment on whether we could provide replacement spectrum for licensees who may find themselves unable to continue using their licensed VPC channels because of our proposal. For example, we might be able to modify their licenses to provide other channels in lieu of Channels 87B and 88B. We also could designate channels other than Channels 87B and 88B for AIS use in the United States as a means of minimizing any adverse economic impact on these licensee. We note, however, that mandating use of channels other than Channels 87B and 88B for AIS use in the United States may have an adverse economic impact on vessel operators and radio equipment manufacturers that qualify as small entities by, for example, increasing the cost of AIS equipment, causing premature obsolescence of AIS equipment already installed on vessels, or leaving manufacturers with stranded inventory. Accordingly, commenting parties, and particularly commenting parties who favor adopting an alternative to the Commission's proposal, are asked to address the potential economic impact of that alternative on small entities.

21. In Appendix D of the NPRM, we list all of the incumbent site-based licensees that currently operate within VHF Public Coast Service Areas (VPCSAs) 1-9 on the channels which we are proposing to designate for exclusive AIS use. We assume for purposes of this IRFA that some or all of these licensees qualify as small entities. We specifically invite these licensees to address the expected economic impact on them of our proposal, and to suggest alternatives or additions to our proposal that would minimize that impact, including but not limited to the methods discussed in the preceding paragraph.

22. We also note that there are incumbent licensees operating on the specified channels in inland areas. We do not anticipate any significant adverse effect on any such licensee due to the geographic limitations of our proposal, i.e., our limiting the AIS set-aside to areas near major navigable waterways. Commenters who believe differently are asked to describe the expected adverse economic impact on incumbent inland licensees operating on these or adjacent channels, and to provide suggested methods of minimizing any such impact. In addition, we note that, although we are proposing only to designate Channels 87B and 88B for AIS in the nine maritime VPCSAs, we have not foreclosed the possibility of designating those channels for AIS on a nationwide basis. Accordingly, inland licensees and other interested parties should address the possible economic impact on small entities if we were to designate Channels 87B and 88B for AIS in inland areas as well as the nine maritime VPCSAs.

F. Federal Rules That May Duplicate, Overlap, or Conflict With the Proposed Rules

None.

III. Ordering Clauses

23. The Commission's Consumer Information Bureau, Reference Information Center, SHALL SEND a copy of this NPRM, including the Initial Regulatory Flexibility Analysis, to the Chief Counsel for Advocacy of the Small Business Administration.

List of Subjects in 47 CFR Parts 2 and 80

Communications equipment, Radio.

Federal Communications Commission.
Marlene H. Dortch,
Secretary.

Proposed Rules

For the reasons discussed in the preamble, the Federal Communications Commission proposes to amend 47 CFR parts 2 and 80 as follows:

PART 2—FREQUENCY ALLOCATIONS AND RADIO TREATY MATTERS; GENERAL RULES AND REGULATIONS

1. The authority citation for part 2 continues to read as follows:

Authority: 47 U.S.C. 154, 302a, 303, and 336, unless otherwise noted.

2. Section 2.106, the Table of Frequency Allocations, is amended as follows:

a. Revise pages 30 and 31.

b. In the list of United States (US) Notes, add note USxxx and remove note US223.

§ 2.106 Table of Frequency Allocations.

The revisions and additions read as follows:

* * * * *

BILLING CODE 6712-01-P

BILLING CODE 6712-01-C

United States (US) Notes

* * * * *

USxxx The bands 161.9625-161.9875 MHz (AIS 1 with its center frequency at 161.975 MHz) and 162.0125-162.0375 MHz (AIS 2 with its center frequency at 162.025 MHz) are allocated to the maritime mobile service on a primary basis for Federal and non-Federal Government use in VHF Public Coast Station Areas (VPCSAs) 1-9. In these areas, the maritime mobile service shall be used exclusively for Automatic Identification Systems (AIS). In VPCSAs 10-42, the band 161.9625-161.9875 MHz is allocated to the maritime mobile service on a primary basis for exclusive non-Federal Government use and the 162.0125-162.0375 MHz is allocated to the fixed and mobile services on a primary basis for exclusive Federal Government use. See 47 CFR 80.371(c)(1)(ii) for the definitions of VPCSAs.

* * * * *

PART 80—STATIONS IN THE MARITIME SERVICES

3. The authority citation for part 80 continues to read as follows:

Authority: Secs. 4, 303, 307(e), 309, and 332, 48 Stat. 1066, 1082, as amended; 47 U.S.C. 154, 303, 307(e), 309, and 332, unless otherwise noted. Interpret or apply 48 Stat. 1064-1068, 1081-1105, as amended; 47 U.S.C. 151-155, 301-609; 3 UST 3450, 3 UST 4726, 12 UST 2377.

4. Section 80.5 is amended by adding an entry for “Automatic Identification Systems (AIS)” in alphabetical order to read as follows:

§ 80.5 Definitions.

* * * * *

Automatic Identification Systems (AIS). A maritime navigation safety communications system standardized by the International Telecommunication Union (ITU) that provides vessel information, including the vessel's identity, type, position, course, speed, navigational status and other safety-related information automatically to appropriately equipped shore stations, other ships, and aircraft; receives automatically such information from similarly fitted ships; monitors and tracks ships; and exchanges data with shore-based facilities.

* * * * *

5. Section 80.13 is amended by revising paragraph (c) to read as follows:

§ 80.13 Station license required.

* * * * *

(c) A ship station is licensed by rule and does not need an individual license issued by the FCC if the ship station is not subject to the radio equipment carriage requirements of any statute, treaty or agreement to which the United States is signatory, the ship station does not travel to foreign ports, and the ship station does not make international communications. A ship station licensed by rule is authorized to transmit radio signals using a marine radio operating in the 156-162 MHz band, any type of AIS, any type of EPIRB, and any type of radar installation. All other transmissions must be authorized under a ship station license. Even though an individual license is not required, a ship station licensed by rule must be operated in accordance with all applicable operating requirements, procedures, and technical specifications found in this part.

6. Section 80.371 is amended by revising paragraphs (c)(1)(i), (c)(2) and (c)(3) to read as follows:

§ 80.371 Public correspondence frequencies.

* * * * *

(c) Working frequencies in the marine VHF 156-162 MHz band. (1)(i) The frequency pairs listed in the following table are available for assignment to public coast stations for public correspondence communications with ship stations and units on land.

Working Carrier Frequency Pairs in the 156-162 MHz Band ¹
Channel designator | Carrier frequency (MHz): Ship transmit | Carrier frequency (MHz): Coast transmit
24 | 157.200 | 161.800
84 | 157.225 | 161.825
25 | 157.250 | 161.850
85 ² | 157.275 | 161.875
26 | 157.300 | 161.900
86 | 157.325 | 161.925
27 | 157.350 | 161.950
87 ³ | 157.375 | 157.375
28 | 157.400 | 162.000
88 ⁴ | 157.425 | 157.425
¹ For special assignment of frequencies in this band in certain areas of Washington State, the Great Lakes and the east coast of the United States pursuant to arrangements between the United States and Canada, see subpart B of this part.
² The frequency pair 157.275/161.875 MHz is available on a primary basis to ship and public coast stations. In Alaska it is also available on a secondary basis to private mobile repeater stations.
³ Within VHF Public Coast Station Areas (VPCSAs) 1 through 9 listed in the table in paragraph (c)(1)(ii) of this section, the frequency 161.975 MHz may be used only for Automatic Identification System communications.
⁴ Within that portion of VHF Public Coast Station Areas (VPCSAs) 1 through 9 listed in the table in paragraph (c)(1)(ii) of this section within 120 km (75 miles) of the United States/Canada border, in the area of the Great Lakes, the Saint Lawrence Seaway, and the Puget Sound and the Strait of Juan de Fuca and its approaches, the frequency 157.425 MHz is available for use by ship stations for public correspondence communications and the frequency 162.025 MHz is available only for Automatic Identification System communications. One hundred twenty kilometers (75 miles) from the United States/Canada border 157.425 MHz is available for intership and commercial communications. Outside the Puget Sound area and its approaches and the Great Lakes, 157.425 MHz is available for communications between commercial fishing vessels and associated aircraft while engaged in commercial fishing activities.

* * * * *

(2) Any recovered channel pairs will revert automatically to the holder of the VPCSA license within which such channels are included, except the channel pairs listed in the table in paragraph (c)(1)(i) of this section. Those channel pairs, and any channel pairs recovered where there is no VPCSA licensee, will be retained by the Commission for future licensing.

(3) VPCSA licensees may not operate on Channel 228B (162.0125 MHz), which is available for use in the Coast Guard's Ports and Waterways Safety System (PAWSS). In addition, VPCSA licensees in VPCSAs 1-9 may not operate on Channel AIS 1 (161.975 MHz) or Channel AIS 2 (162.025 MHz), which are designated in those areas exclusively for Automatic Identification Systems (AIS), except to transmit and receive AIS communications to the same extent, and subject to the same limitations, as other shore stations participating in AIS.

* * * * *

7. Section 80.373 is amended by revising paragraph (j) to read as follows:

§ 80.373 Private communications frequencies.

* * * * *

(j) Frequencies for portable ship stations. VHF frequencies authorized for stations authorized carrier frequencies in the 156.275 MHz to 157.450 MHz and 161.575 MHz to 162.025 MHz bands may also be authorized as marine utility stations. Marine-utility stations on shore must not cause interference to any Automatic Identification System, VHF or coast station, VHF or UHF land mobile base station, or U.S. Government station.

8. Section 80.393 is added to read as follows:

§ 80.393 Frequencies for AIS stations.

Automatic Identification Systems (AIS) is a maritime broadcast service provided by both the United States Coast Guard and Commission licensees. The simplex channels at 161.975 MHz (AIS 1) and 162.025 MHz (AIS 2), each with a 25 kHz bandwidth, may be authorized in VHF Public Coast Station Areas 1-9 for AIS. These areas are codified at 47 CFR 80.371(c)(1)(ii). In accordance with the Maritime Transportation Security Act, the United States Coast Guard regulates AIS carriage requirements for non-Federal Government ships. These requirements are codified at 33 CFR 164.46, 401.20.

[FR Doc. 04-25289 Filed 11-12-04; 8:45 am]

BILLING CODE 6712-01-P